FEDERAL COMMUNICATIONS COMMISSION

[OMB 3060-1003; FRS 16575]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written PRA comments should be submitted on or before May 26, 2020. If you anticipate that you will be submitting comments, but find it difficult to do so within the period of time allowed by this notice, you should advise the contact listed below as soon as possible.

ADDRESSES: Direct all PRA comments to Nicole Ongele, FCC, via email PRA@fcc.gov and to Nicole.ongele@fcc.gov.

FOR FURTHER INFORMATION CONTACT: For additional information about the information collection, contact Nicole Ongele, (202) 418-2991.

SUPPLEMENTARY INFORMATION:

OMB Control Number: 3060-1003.

Title: Communications Disaster Information Reporting System (DIRS).

Form No.: Not applicable.

Type of Review: Revision of a currently approved collection.

Respondents: Business or other for- profit entities; Not-for-profit institutions; Federal Government; and/or State, local or tribal governments.

Number of Respondents and Responses: 400 Respondents and 104,000 responses.

Estimated Time per Response: 0.1-0.5 Hours.

Frequency of Response: On occasion reporting requirement.

Obligation to Respond: Mandatory and Voluntary. For Support Recipients, the obligation to report is mandatory. For all other DIRS participants, the obligation to report is voluntary. Statutory authority for collecting this information from satellite providers is contained in 47 U.S.C. 151 et. seq., 154(i), 218, 303(r) of the Communications Act of 1934, as amended.

Total Annual Burden: 16,320 Hours.

Total Annual Costs: No Cost(s).

Privacy Act Impact Assessment: No impact(s).

Nature and Extent of Confidentiality: The information collection from respondents shall be treated as presumptively confidential upon filing. The Commission will limit direct access to DIRS reports to select Commission staff and, with protections at least as strong as required by the Freedom of Information Act (FOIA), with select federal and potentially state agency partners, including the Department of Homeland Security (DHS). The Commission will not publish the individual submissions but may publish this information on an aggregated basis in daily communications status reports. The Commission will also work with respondents to ensure that any concerns regarding the confidentiality of their DIRS filings are resolved in a manner consistent with Commission rules.

Needs and Uses: The Commission launched DIRS in 2007 pursuant to its mandate to promote the safety of life and property through the use of wire and radio communication as required by the Communications Act of 1934, as amended. DIRS is a voluntary, efficient and web-based system that communications companies may use to report their infrastructure status during times of crisis (e.g., related to a disaster). DIRS uses a number of template forms tailored to different communications sectors (i.e., wireless, wireline, broadcast, and cable) to facility the entry of this information. To use DIRS, a company first inputs its emergency contact information. After this, they submit information using the template form appropriate for their communications sector. OMB initially approved the DIRS information collection in 2007 under OMB Control Number 3060-1003, and OMB has approved multiple revisions and extensions of the collection since that time. (See OMB Control No. 3060-1003; 07/21/2007; 06/08/2012; 07/02/2015; 07/17/2018.)

The Commission is now revising the DIRS information collection to provide for one new form tailored to satellite communications providers and to update its previous burden estimates. First, the new form has the same general scope as existing forms, already approved by OMB, but is tailored to satellite providers' networks. Since OMB's 2007 approval, satellite providers have been expressly authorized to participate in DIRS, but DIRS does not currently include a tailored form for them to do so. Collecting this information from satellite providers via DIRS is necessary to meet the Commission's goals of restoring communications quickly and ensuring that emergency and defense personnel have access to effective communications during disaster events, thus helping fulfill the Commission's public safety mandate.

Second, as a part of the Commission's response to the 2017 hurricane season, the Commission adopted the PR and USVI Funds Order to improve Puerto Rico and the U.S. Virgin Island's communications networks' resiliency and recovery efforts, amongst other purposes. (PR and USVI Funds Order, FCC 19-95, para. 1-9). The PR and USVI Funds Order requires Support Recipients to report in DIRS. The Commission requests a revision of the currently approved collection to include mandatory DIRS reporting for Support Recipients. Mandatory DIRS reporting will allow the Commission to track networking hardening efforts and increase Support Recipients' accountability, which the Commission expects will improve network hardening efforts and make networks more resilient in future. The PR and USVI Funds Order does not otherwise alter DIRS.

Federal Communications Commission.
Cecilia Sigmund,
Federal Register Liaison Officer, Office of the Secretary.

[FR Doc. 2020-06093 Filed 3-23-20; 8:45 am]

BILLING CODE 6712-01-P